DEPARTMENT OF THE INTERIOR

National Park Service

Land Exchange at Richmond National Battlefield Park

AGENCY: National Park Service, Interior.

ACTION: Announcement of land exchange.

SUMMARY: This notice announces a proposed exchange of a 0.32-acre parcel of Federal land in Chesterfield County, Virginia for a 236-acre parcel of privately owned land in Hanover County, Virginia. Both properties are inside the boundaries of Richmond National Battlefield Park (the Park). Acquisition of this 236-acre property will allow the Park to protect the resources and more fully interpret the Battle of Beaver Dam Creek for visitors in perpetuity. An Environmental Survey Assessment of the proposed exchange and a Cultural Resource Survey have been made of the lands involved in this proposed exchange. The parcels have been surveyed for endangered and threatened species. Copies of the surveys are available upon request.

I. The following described 0.32-acre parcel of Federal land, located in the Drewry's Bluff Unit of the Park, has been determined to be suitable for disposal by exchange. Federal Tract 03-110 is located near Fort Darling Road in Chesterfield County. It is a 0.32-acre portion of a 23-acre tract acquired in 1936 by the United States, National Park Service by Deed Book 1179 at Page 843 recorded at the Clerk's Office of the Circuit Court of Chesterfield County, Virginia. The parcel is a 30-foot wide strip of land which is currently occupied by underground pipes that are a portion of a five mile long acid and water pipeline owned by E.I. DuPont de Nemours & Company (DuPont). The pipeline was installed in 1980 under a special use permit which has expired, and the National Park Service has no authority to renew it. This strip of land is approximately 100 feet from the northbound lanes of Interstate 95 and is crossed by the entrance road to the Drewry's Bluff Unit of the Park.

The United States will convey fee simple title to Tract 03-110, together with a right-of-way for access from Fort Darling Road, by a quitclaim deed to DuPont. The deed will include permanent restrictions that prohibit construction of any above ground improvements and will require DuPont to restore the surface of the ground to its previous condition, in the event the ground is disturbed for any reason. The United States will retain a permanent right-of-way across the parcel for public access to the Drewry's Bluff Unit.

II. In exchange for the land described in paragraph I above, the United States will acquire fee title to Tract 01-114, a 236-acre unimproved parcel of land owned by The Conservation Fund (TCF) located on Old Cold Harbor Road in Hanover County, in the Beaver Dam Creek Unit of the Park. Both surface and mineral estates of the 236-acre parcel are to be exchanged. All right, title and interest in the Chesterfield County parcel is to be conveyed by the United States in exchange for the conveyance of all right, title and interest in the Hanover County parcel by TCF. The land conveyed to the United States will be administered by the National Park Service as part of the Richmond National Battlefield Park upon completion of the exchange. This exchange will ensure the protection of 236 acres of the Beaver Dam Creek Battlefield and provide DuPont with ownership of a small strip of land that is occupied by a portion of its underground pipeline.

The values of the properties to be exchanged were established by appraisals of fair market value. Since the appraised value of the 236-acre parcel exceeds the appraised value of the 0.32-acre parcel, TCF will donate the difference in value to the United States.

For a period of 45 days from the date of this notice, interested parties may submit written comments to the Park Superintendent at the address listed below. Adverse comments will be evaluated and this action may be modified or vacated accordingly. In the absence of any action to modify or vacate, this realty action will become the final determination of the Department of Interior.

FOR FURTHER INFORMATION CONTACT: Superintendent Cynthia MacLeod, Richmond National Battlefield Park, 3215 East Broad Street, Richmond, Virginia, Phone: 804-226-1981. Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: The Act of November 13, 2000 (16 U.S.C. 4231-4(a) (1) authorizes the Secretary of the Interior to acquire lands, waters, and interests in lands within the boundaries of Richmond National Battlefield Park from willing landowners by donation, purchase with donated or appropriated funds, or exchange.

Dated: December 5, 2006.
Chrysandra L. Walter,
Acting Regional Director, Northeast Region.

[FR Doc. E6-21616 Filed 12-18-06; 8:45 am]

BILLING CODE 4310-70-P